DEPARTMENT OF EDUCATION

[Docket No. ED-2020-SCC-0171]

Agency Information Collection Activities; Submission to the Office of Management and Budget for Review and Approval; Comment Request; National Survey of Charter School Facilities

AGENCY: Office of Integration and Improvement (OII), Department of Education (ED).

ACTION: Notice.

SUMMARY: In accordance with the Paperwork Reduction Act of 1995, ED is proposing a revision of a currently approved collection.

DATES: Interested persons are invited to submit comments on or before March 11, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Nicoisa Jones, (202) 453-6695.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Survey of Charter School Facilities.

OMB Control Number: 1855-0024.

Type of Review: A revision of a currently approved collection.

Respondents/Affected Public: State, Local, and Tribal Governments.

Total Estimated Number of Annual Responses: 700.

Total Estimated Number of Annual Burden Hours: 397.

Abstract: This is a revision to the national survey on charter school facilities that is designed to inform the public of the conditions and operations of buildings used by charter schools. The survey questionnaire includes 45 questions. Depending on the facility status of schools, respondents will follow skip patterns to answer questions that are only relevant to their schools. A pilot test shows that the questionnaire takes approximately 34 minutes to complete. National Charter School Resource Center (NCSRC) will administer in fall 2021 via an online survey platform. Responses to the survey questions will inform the public of the physical conditions of buildings charter schools use as well as resources and challenges for charter schools to access and maintain facilities.

The survey follows a stratified systematic design to draw a sample of 700 charter schools nationwide. NCSRC will coordinate with Charter School Organizations (CSOs) and local entities to recruit schools and maximize the response rate of the survey. NCSRC staff will clean and analyze the survey data using statistical analytic and reporting techniques appropriate to the data collected.

Dated: February 4, 2021.
Kate Mullan,
PRA Coordinator, Strategic Collections and Clearance, Governance and Strategy Division, Office of Chief Data Officer, Office of Planning, Evaluation and Policy Development.

[FR Doc. 2021-02612 Filed 2-8-21; 8:45 am]

BILLING CODE 4000-01-P